DEPARTMENT OF THE INTERIOR

National Park Service

[NPS-WASO-NRNHL-DTS#-29524; PPWOCRADI0, PCU00RP14.R50000]

National Register of Historic Places; Notification of Pending Nominations and Related Actions

AGENCY: National Park Service, Interior.

ACTION: Notice.

SUMMARY: The National Park Service is soliciting comments on the significance of properties nominated before December 14, 2019, for listing or related actions in the National Register of Historic Places.

DATES: Comments should be submitted by January 17, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 14, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Baxter County

Mountain Home Cemetery-Historic Section, 147 East 11th St., Mountain Home, SG100004895

Craighead County

Patteson House, 2801 Harrisburg Rd., Jonesboro vicinity, SG100004898

Desha County

Dante House, 501 Court St., Dumas, SG100004905

Hot Spring County

Lono Gymnasium (New Deal Recovery Efforts in Arkansas MPS), 11702 AR 222, Lono, MP100004896

Phillips County

Lee Grocery Store (Ethnic and Racial Minority Settlement of the Arkansas Delta MPS), 100 Main St., Elaine, MP100004897

Pulaski County

Shiloh Missionary Baptist Church, 1200 Hanger St., Little Rock, SG100004893

Maumelle River Bridge (Historic Bridges of Arkansas MPS), Old AR 300 over the Maumelle River, Natural Steps vicinity, MP100004894

Downs Historic District, 4206, 4208, 4210, 4212, 4214, 4216 & 4218 Fairview Rd.; 4201 South Lookout Rd., and 4207, 4209, 4211 & 4213 Wait St., Little Rock, SG100004903

Alexander House, 24 East Palisades Dr., Little Rock, SG100004904

Saline County

Bennett House, 503 First St., Benton, SG100004906

FLORIDA

Bay County

Panama Grammar School, 101 East Seventh St., Panama City, SG100004888

Hernando County

Weeki Wachee Springs, 6131 Commercial Way, Spring Hill, SG100004890

Washington County

Craven, Dr. James B. and Virginia, House, 912 FL 277, Chipley, SG100004889

GEORGIA

Chatham County

Abrahams, Edmund and Mildred, Raised Tybee Cottage, 4 Eighth St., Tybee Island, SG100004900

Screven County

Brier Creek Battlefield, Address Restricted, Sylvania vicinity, SG100004899

ILLINOIS

Champaign County

Champaign Downtown Commercial District, Former ICRR & Main St.; Neil St.; Taylor, Bailey, University; and ICRR, Champaign, SG100004912

NEW JERSEY

Middlesex County

Freeman, Mary Wilkins, House, 207 Lake Ave., Metuchen, SG100004886

NEW YORK

Chenango County

North Guilford Cemetery, 158 Whites Hill Rd., North Guilford, SG100004911

Essex County

Asgaard Farm, 74 Asgaard Way, Au Sable Forks, SG100004907

Kings County

Lewis Avenue Congregational Church, 275 Lewis Ave., 574 Madison St., Brooklyn, SG100004908

Niagara County

Forsyth-Warren Farm, 5182 Ridge Rd., Lockport vicinity, SG100004910

Ulster County

Accord Historic District, Devoe Ln., Granite Rd., Main St., Scenic Rd. Schoolhouse Rd., Tobacco Rd., Tow Path Rd., Accord, SG100004909

Additional documentation has been received for the following resource:

ARKANSAS

Pulaski County

Capitol View Neighborhood Historic District (Additional Documentation), Roughly bounded by Riverview Dr., S. Schiller St., W. Seventh St. and Woodrow St., Little Rock, AD00000813

Nomination submitted by Federal Preservation Officer:

The State Historic Preservation Officer reviewed the following nominations and responded to the Federal Preservation Officer within 45 days of receipt of the nominations and supports listing the properties in the National Register of Historic Places.

PUERTO RICO

Rio Grande Municipality

Baño de Oro (New Deal Era Constructions in the Forest Reserves in Puerto Rico), PR191, km 12.1, Rio Grande vicinity, MP100004891

Authority: Section 60.13 of 36 CFR part 60.

Dated: December 16, 2019.
Julie H. Ernstein,
Supervisory Archeologist, National Register of Historic Places/National Historic Landmarks Program.

[FR Doc. 2019-28292 Filed 12-31-19; 8:45 am]

BILLING CODE 4312-52-P